ENVIRONMENTAL PROTECTION AGENCY

[EPA-HQ-OPP-2010-0014; FRL-9370-3]

Notice of Receipt of Requests to Voluntarily Cancel Certain Pesticide Registrations

AGENCY: Environmental Protection Agency (EPA).

ACTION: Notice.

SUMMARY: In accordance with the Federal Insecticide, Fungicide, and Rodenticide Act (FIFRA), EPA is issuing a notice of receipt of requests by registrants to voluntarily cancel certain pesticide registrations. EPA intends to grant these requests at the close of the comment period for this announcement unless the Agency receives substantive comments within the comment period that would merit its further review of the requests, or unless the registrants withdraw its requests. If these requests are granted, any sale, distribution, or use of products listed in this notice will be permitted after the registration has been cancelled only if such sale, distribution, or use is consistent with the terms as described in the final order.

DATES: Comments must be received on or before May 28, 2013.

ADDRESSES: Submit your comments, identified by docket identification (ID) number EPA-HQ-OPP-2010-0014, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

Submit written withdrawal request by mail to: Pesticide Re-evaluation Division (7508P), Office of Pesticide Programs, Environmental Protection Agency, 1200 Pennsylvania Ave. NW., Washington, DC 20460-0001. ATTN: John W. Pates, Jr.

• Hand Delivery: To make special arrangements for hand delivery or delivery of boxed information, please follow the instructions at http://www.epa.gov/dockets/contacts.htm.

Additional instructions on commenting or visiting the docket, along with more information about dockets generally, is available at http://www.epa.gov/dockets.

FOR FURTHER INFORMATION CONTACT: John W. Pates, Jr., Pesticide Re-evaluation Division (7508P), Office of Pesticide Programs, Environmental Protection Agency, 1200 Pennsylvania Ave. NW., Washington, DC 20460-0001; telephone number: (703) 308-8195; email address: pates.john@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. What action is the Agency taking?

This notice announces receipt by the Agency of requests from registrants to cancel 22 pesticide products, including certain resmethrin product registrations, registered under FIFRA section 3 or 24(c). These registrations are listed in sequence by registration number (or company number and 24(c) number) in Tables 1a and 1b of this unit.

Unless the Agency determines that there are substantive comments that warrant further review of the requests or the registrants withdraw their requests, EPA intends to issue orders in the Federal Register canceling all of the affected registrations.

Resmethrin Products (000432-00667, 000432-00716 and 073049-00086). Resmethrin is a member of the pyrethroid class of pesticides. It is a broad spectrum, non-systemic, synthetic pyrethroid insecticide. There are only three resmethrin products registered at this time, and these products are registered only for public health vector control use, including use as a wide area mosquito abatement insecticide. All other previously registered resmethrin products and uses not listed in this notice have been cancelled in previous Federal Register notices. The resmethrin product registrations listed in this Federal Register notice (000432-00667, 000432-00716 and 073049-00086) are the last three remaining registrations for resmethrin.

The registrants have requested voluntary cancellation of these resmethrin containing products based on the fact that the costs to fulfill the Data Call-In (DCI) requirements from the 2006 Resmethrin Reregistration Eligibility Decision (RED), the anticipated DCI requirements for the registration review of resmethrin, and the Endocrine Disruptor Screening Program (EDSP) testing order data requirements are not justified by the market opportunity in the vector control business segment. Resmethrin users or anyone else that desires the retention of any of these resmethrin registrations for only public health vector control should contact the applicable registrants during the comment period. For the most up-to-date, complete listing of the registration review and reregistration data needed to support any of these resmethrin registrations, refer to the June 22, 2012 Resmethrin Preliminary Work Plan located in docket number EPA-HQ-OPP-2012-0414 at www.regulations.gov. For a complete listing of the Tier I screening battery data required for resmethrin by the Endocrine Disruptor Screening Program, refer to Federal Register notice (74 FR 54416, October 21, 2009) located at www.gpo.gov/fdsys. These data would need to be submitted well in advance of the proposed cancellation date for EPA to consider amending the cancellation of resmethrin and retaining any of the products listed in this notice.

Table 1a—Registrations With Pending Requests for Cancellation
Registration No. | Product name | Chemical name
000264-00977 | Tops-MZ-Gaucho Potato Seed-Piece Treatment | Mancozeb, Thiophanate-methyl, Imidacloprid.
000264-00978 | Gaucho-MZ Potato Seed-Piece Treatment | Mancozeb, Imidacloprid.
000264-00996 | Raxil MD-W Seed Treatment | Metalaxyl, Tebuconazole, Imidacloprid.
005383-00011 | Troysan 174 | 2-((Hydroxymethyl) amino)ethanol.
010466-00028 | Ultrafresh DM-50 | Tributyltin maleate.
040849-00072 | Enforcer P002-082797-RMP | S-Methoprene/Permethrin.
042177-00009 | Olympic Algaecide 20 | Poly(oxy-1,2-ethanediyl(dimethylimino)-1,2-ethanediyl(dimethylimino)-1,2-ethanediyl dichloride).
046043-00031 | Suncoast's Pool Algaecide 20 | Poly(oxy-1,2-ethanediyl (dimethylimino)-1,2-ethanediyl (dimethylimino)-1,2-ethanediyl dichloride).
062910-00032 | Arch CMIT/MIT | 5-Chloro-2-methyl-3(2H)-isothiazolone, 2-Methyl-3(2H)-isothiazolone.
062910-00035 | Arch CMIT/MIT 14 MUP | 2-Methyl-3(2H)-isothiazolone, 5-Chloro-2-methyl-3(2H)-isothiazolone.
074601-00001 | Chlorothalonil Technical Fungicide | Chlorothalonil.
075449-00003 | Sodium Bichromate Solution 69% | Dichromic acid, (H2Cr207), disodium salt, dihydrate.
AZ-030006 | Dual Magnum Herbicide | S-Metolachlor.
AZ-070007 | Gramoxone Inteon | Paraquat dichloride.
AZ-090001 | Ethrel Brand Ethephon Plant Regulator | Ethephon.
CO090004 | Actara Insecticide | Thiamethoxam.
CO120001 | Gramoxone SL 2.0 | Paraquat dichloride.
LA-110006 | Milestone VM | Triisopropanolamine salt of aminopyralid.
OR-070032 | DuPont Direx 4L Herbicide | Diuron.

Table 1b—Resmethrin Registrations With Pending Requests for Cancellation
Registration No. | Product name | Chemical name
000432-00667 | Scourge Insecticide W/SBP-1382/Piperonyl Butoxide 18% + 54% MF Form. II | Piperonyl butoxide/Resmethrin.
000432-00716 | Scourge Insecticide W/SBP-1382/Piperonyl Butoxide 4% + 12% MF FII | Piperonyl butoxide/Resmethrin.
073049-00086 | SBP-1382 Technical with Antioxidant | Resmethrin.

Table 2 of this unit includes the names and addresses of record for all registrants of the products in Tables 1a and 1b of this unit, in sequence by EPA company number. This number corresponds to the first part of the EPA registration numbers of the products listed in this unit.

Table 2—Registrants Requesting Voluntary Cancellation
EPA company No. | Company name and address
264 | BAYER CROPSCIENCE, LP, 2 T.W. Alexander Drive, P.O. Box 12014, Research Triangle Park, North Carolina 27709.
432 | BAYER ENVIRONMENTAL SCIENCE, 2 T.W. Alexander Drive, P.O. Box 12014, Research Triangle Park, North Carolina 27709.
5383 | TROY CHEMICAL CORP, 8 Vreeland Road, P.O. Box 955, Florham Park, NJ 07932-4200.
10466 | THOMAS RESEARCH ASSOCIATES, Shenstone Estates, 17804 Braemar Pl., Leesburg, Virginia 201767046.
40849 | ZEP COMMERCIAL SALES & SERVICES, 4196 Merchant Plaza #344, Lake Ridge, Virginia 22192.
42177 | ALLIANCE TRADING, INC, 1150 18th Street NW., Suite 1000, Washington, DC 20036.
46043 | SUNCOAST CHEMICALS COMPANY, 14480 62nd St. N, Clearwater, FL 33760.
62190 | ARCH WOOD PROTECTION, INC, 5660 New Northside Drive, Suite 1100, Atlanta, Georgia 30328.
73049 | VALENT BIOSCIENCES CORPORATION, 870 Technology Way, Libertyville, Illinois 600486316.
74601 | OXON ITALIA S.P.A., Agent: Lewis & Harrison, LLC, 122 C Street NW., Suite 740, Washington, DC 20001.
75449 | ELEMENTIS CHROMIUM, LP, 5408 Holly Shelter Road, Castle Hayne, NC 28429.
AZ030006 AZ070007 CO090004 CO120001 | SYNGENTA CROP PROTECTION, LLC, 410 Swing Road, P.O. Box 18300, Greensboro, NC 27419-8300.
LA110006 | DOW AGROSCIENCES, LLC, 9330 Zionsville Rd, 308/2E, Indianapolis, IN 46268-1054.
OR070032 | E.I. DUPONT DE NEMOURS and COMPANY (S300/419), Manager, Registration & Regulatory Affairs, 1007 Market Street, Wilmington, Delaware 19898-0001.
AZ090001 | BAYER CROPSCIENCE, LP, 2 T.W. Alexander Drive, P.O. Box 12014, Research Triangle Park, NC 27709.

III. What is the Agency's authority for taking this action?

Section 6(f)(1) of FIFRA provides that a registrant of a pesticide product may at any time request that any of its pesticide registrations be canceled. FIFRA further provides that, before acting on the request, EPA must publish a notice of receipt of any such request in the Federal Register.

Section 6(f)(1)(B) of FIFRA requires that before acting on a request for voluntary cancellation, EPA must provide a 30-day public comment period on the request for voluntary cancellation or use termination. In addition, FIFRA section 6(f)(1)(C) requires that EPA provide a 180-day comment period on a request for voluntary cancellation or termination of any minor agricultural use before granting the request, unless:

1. The registrants request a waiver of the comment period, or

2. The EPA Administrator determines that continued use of the pesticide would pose an unreasonable adverse effect on the environment.

The registrants in Table 2 of Unit II. have not requested that EPA waive the 180-day comment period. Accordingly, EPA will provide a 180-day comment period on the proposed requests.

IV. Procedures for Withdrawal of Request

Registrants who choose to withdraw a request for cancellation should submit such withdrawal in writing to the person listed under FOR FURTHER INFORMATION CONTACT. If the products have been subject to a previous cancellation action, the effective date of cancellation and all other provisions of any earlier cancellation action are controlling.

V. Provisions for Disposition of Existing Stocks

Existing stocks are those stocks of registered pesticide products that are currently in the United States and that were packaged, labeled, and released for shipment prior to the effective date of the cancellation action. If the requests for voluntary cancellation are granted, the EPA intends to publish the Cancellation Order in the Federal Register.

A. For All Products Listed in Table 1a in Unit II

Because the Agency has identified no significant potential risk concerns associated with these pesticide products, upon cancellation of the products identified in Table 1a of Unit II., EPA anticipates allowing registrants to sell and distribute existing stocks of these products for 1 year after publication of the Cancellation Order in the Federal Register. Thereafter, registrants will be prohibited from selling or distributing the pesticides identified in Table 1a of Unit II., except for export consistent with FIFRA section 17 or for proper disposal. Persons other than registrants will generally be allowed to sell, distribute, or use existing stocks until such stocks are exhausted, provided that such sale, distribution, or use is consistent with the terms of the previously approved labeling on, or that accompanied, the canceled products.

B. For All Products Listed in Table 1b in Unit II

In any order issued in response to these requests for cancellation of product registrations, EPA proposes to include the following provisions for the treatment of any existing stocks of the products containing resmethrin listed in Table 1b of Unit II.

After December 31, 2015, registrants will be prohibited from selling or distributing existing stocks of products containing resmethrin labeled for all uses.

After December 31, 2015, persons other than the registrants will be allowed to sell, distribute, or use existing stocks of products containing resmethrin until supplies are exhausted, provided that such sale, distribution, or use is consistent with the terms of the previously approved labeling on, or that accompanied, the canceled products.

List of Subjects

Environmental protection, Pesticides and pests.

Dated: November 19, 2012.
Richard P. Keigwin, Jr.,
Director, Pesticide Re-evaluation Division, Office of Pesticide Programs.

[FR Doc. 2012-28726 Filed 11-27-12; 8:45 am]

BILLING CODE 6560-50-P